DEPARTMENT OF THE TREASURY

United States Mint

Extension of Suspension of Coin Exchange by United States Mint

ACTION: Notice.

SUMMARY: Under the authority of 31 U.S.C. 5120, the United States Mint established a program by which people and businesses could exchange bent and partial coins for reimbursement. Fused or mixed coins cannot be redeemed by the United States Mint.

On November 2, 2015, the United States Mint suspended the exchange program for a period of six months to assess the security of the program and develop additional safeguards, as necessary, to ensure the integrity of United States coinage. Since that time, the United States Mint has made significant progress in assessing the current state of the program, evaluating risks, and identifying potential remedial measures. Additionally, the United States Mint has engaged the services of an independent contractor to assist us in these efforts. However, due to recent litigation involving the exchange program and more time needed to complete our work, the United States Mint is extending the suspension of its redemption of bent and partial coins for an additional period of six months.

DATES: Effective May 2, 2016.

FOR FURTHER INFORMATION CONTACT: Tom Jurkowsky; Director, Office of Corporate Communications; United States Mint; Washington, DC; at (202) 354-7720 or tom.jurkowsky@usmint.treas.gov.

Authority: 31 U.S.C. 5120.

Dated: April 26, 2016.
Richard A. Peterson,
Deputy Director for Manufacturing and Quality, United States Mint.

[FR Doc. 2016-10123 Filed 4-28-16; 8:45 am]

BILLING CODE P